DEPARTMENT OF LABOR

Employment and Training Administration

[TA-W-63,897]

IAC Canton, Inc., a Subsidiary of International Automotive Components Group North America, Inc., Canton, OH; Notice of Negative Determination on Reconsideration

On November 6, 2008, the Department issued an Affirmative Determination Regarding Application for Reconsideration for the workers and former workers of the subject firm. The notice was published in the Federal Register on November 13, 2008 (73 FR 67207).

The initial investigation resulted in a negative determination based on the finding that imports of rubber sheets, dash insulators, and rubber floor mats did not contribute importantly to worker separations at the subject firm and no shift of production to a foreign source occurred.

The petitioner alleged that the subject firm has been moving the dash insulator equipment to Canada and requested that an investigation of a shift in production to Canada be undertaken.

The Department of Labor contacted a company official to verify this information. The company official stated that no production of rubber sheets, dash insulators, and rubber floor mats and no equipment have been moved from the subject facility to Canada. The company official also provided a statement that the production was shifted from the subject facility to Springfield, Tennessee.

The petitioner further alleges that production at the subject firm has been negatively impacted by increase in sales of imported vehicles. The petitioner concludes that because rubber sheets, dash insulators, and rubber floor mats are used to manufacture vehicles and sales and production of rubber sheets, dash insulators, and rubber floor mats at the subject firm have been negatively impacted by increasing presence of foreign imports of vehicles on the market, workers of the subject firm should be eligible for TAA.

In order to establish import impact, the Department must consider imports that are like or directly competitive with those produced at the subject firm. The Department conducted a survey of the subject firm's major declining customer regarding its purchases of rubber sheets, dash insulators, and rubber floor mats. The survey revealed that the declining customer did not import rubber sheets, dash insulators, and rubber floor mats in 2006, 2007 and during January through July 2008.

Imports of vehicles cannot be considered like or directly competitive with rubber sheets, dash insulators, and rubber floor mats produced by IAC Canton, Inc., Canton, Ohio, and imports of vehicles are not relevant in this investigation.

Whether the subject firm's customers were import impacted is relevant to a determination of whether subject firm workers are eligible for TAA based on the subject firm being a secondary upstream supplier of a trade certified primary firm. For certification on the basis of the workers' firm being a secondary upstream supplier, the subject firm must produce component parts of an article that was the basis for a TAA certification of customer(s) during the relevant period.

The Department conducted a further investigation and determined that none of the customers of the subject firm was certified eligible for TAA during the relevant period.

Conclusion

After reconsideration, I affirm the original notice of negative determination of eligibility to apply for worker adjustment assistance for workers and former workers of IAC Canton, Inc., a subsidiary of International Automotive Components Group, North America, Inc., Canton, Ohio.

Signed at Washington, DC, this 9th day of January 2009.
Elliott S. Kushner,
Certifying Officer, Division of Trade Adjustment Assistance.

[FR Doc. E9-647 Filed 1-14-09; 8:45 am]

BILLING CODE 4510-FN-P